DEPARTMENT OF COMMERCE

National Oceanic and Atmospheric Administration

50 CFR Part 679

RIN 0648-BD48

Fisheries of the Exclusive Economic Zone Off Alaska; Chinook Salmon Bycatch Management in the Gulf of Alaska Non-Pollock Trawl Fishery; Amendment 97

AGENCY: National Marine Fisheries Service (NMFS), National Oceanic and Atmospheric Administration (NOAA), Commerce.

ACTION: Notice of availability of fishery management plan amendment; request for comments.

SUMMARY: The North Pacific Fishery Management Council has submitted Amendment 97 to the Fishery Management Plan for Groundfish of the Gulf of Alaska (FMP). If approved, Amendment 97 would limit Chinook salmon prohibited species catch (PSC) in the Western and Central Gulf of Alaska (GOA) non-pollock trawl fisheries. This action would establish separate Chinook salmon PSC annual limits for the non-pollock trawl catcher vessel (CV) and catcher/processor (C/P) sectors and a seasonal limit for the C/P sector. The CV sector PSC limit would be further divided between vessels participating in the Central GOA Rockfish Program and vessels not participating in the Central GOA Rockfish Program. If a sector reached its seasonal or annual Chinook salmon PSC limit, NMFS would prohibit further directed fishing for non-pollock groundfish by vessels in that sector for the remainder of the season or fishing year. This proposed action would also establish salmon retention and discard requirements for vessels, shoreside processors and stationary floating processors participating in the non-pollock groundfish fisheries. The combination of these retention requirements will enable accurate reporting of salmon in eLandings at the processor. Salmon accounting at a processor may assist the industry in tracking and cooperatively managing its Chinook salmon PSC. This action is necessary to minimize the catch of Chinook salmon to the extent practicable in the Western and Central GOA non-pollock trawl fisheries. Amendment 97 is intended to promote the goals and objectives of the Magnuson-Stevens Fishery Conservation and Management Act, the FMP, and other applicable laws.

DATES: Comments on the amendment must be received on or before August 4, 2014.

ADDRESSES: You may submit comments on this document, identified by FDMS Docket Number NOAA-NMFS-2013-0077 by either of the following methods:

• Electronic Submission: Submit all electronic public comments via the Federal e-Rulemaking Portal. Go to www.regulations.gov/#!docketDetail;D=NOAA-NMFS-2013-0077, click the “Comment Now!” icon, complete the required fields, and enter or attach your comments.

• Mail: Submit written comments to Glenn Merrill, Assistant Regional Administrator, Sustainable Fisheries Division, Alaska Region NMFS, Attn: Ellen Sebastian. Mail comments to P.O. Box 21668, Juneau, AK 99802-1668.

Instructions: Comments sent by any other method, to any other address or individual, or received after the end of the comment period, may not be considered by NMFS. All comments received are a part of the public record and will generally be posted for public viewing on www.regulations.gov without change. All personal identifying information (e.g., name, address), confidential business information, or otherwise sensitive information submitted voluntarily by the sender will be publicly accessible. NMFS will accept anonymous comments (enter “N/A” in the required fields if you wish to remain anonymous). Attachments to electronic comments will be accepted in Microsoft Word, Excel, or Adobe PDF file formats only.

Electronic copies of the Environmental Assessment/Regulatory Impact Review/Initial Regulatory Flexibility Analysis (collectively, Analysis) prepared for this action are available from http://www.regulations.gov or from the NMFS Alaska Region Web site at http://alaskafisheries.noaa.gov.

FOR FURTHER INFORMATION CONTACT: Jeff Hartman, 907-586-7228.

SUPPLEMENTARY INFORMATION: The Magnuson-Stevens Fishery Conservation and Management Act (MSA) requires that each regional fishery management council submit any fishery management plan amendment it prepares to NMFS for review and approval, disapproval, or partial approval by the Secretary of Commerce. The MSA also requires that NMFS, upon receiving a fishery management plan amendment, immediately publish a notice in the Federal Register announcing that the amendment is available for public review and comment. This notice announces that proposed Amendment 97 to the FMP is available for public review and comment.

The groundfish fisheries in the exclusive economic zone of the GOA are managed under the FMP. The FMP was prepared by the North Pacific Fishery Management Council (Council) under the MSA. Amendment 97 would apply Chinook salmon PSC limits to Federally-permitted vessels fishing for groundfish other than pollock with trawl gear (non-pollock trawl fisheries) in the Western and Central Reporting Areas of the Gulf of Alaska (Western and Central GOA). The Western and Central Reporting Areas, defined at § 679.2 and shown in Figure 3 to 50 CFR part 679, consist of the Western and Central Regulatory Areas in the exclusive economic zone (Statistical Areas 610, 620, and 630) and the adjacent waters of the State of Alaska (0 to 3 nm).

If approved, Amendment 97 would: (1) Establish annual Chinook salmon PSC limits for the Trawl C/P, Rockfish Program CV, and Non-Rockfish Program CV Sectors; (2) establish an “incentive buffer” for the Trawl C/P and Non-Rockfish Program CV Sectors that would allow each sector to increase its annual Chinook salmon PSC limit if the amount of Chinook salmon PSC taken in the sector in the previous year was less than a specified amount of the sector's limit; (3) establish a seasonal limit on the amount of Chinook salmon PSC that could be taken in the Trawl C/P Sector prior to June 1 of each year; (4) allow the reallocation of unused Chinook salmon PSC from the Rockfish Program CV Sector to the Non-Rockfish Program CV Sector on October 1 and November 15 of each year; and (5) establish salmon retention requirements to ensure adequate accounting of Chinook salmon PSC, and to improve the collection of biological samples that could aid in the determination of stock of origin of Chinook salmon PSC in the non-pollock trawl fisheries.

From 1997 through 2013, the non-pollock trawl fisheries accounted for approximately 27 percent of the total trawl fishery Chinook salmon PSC in the Western and Central GOA groundfish fisheries. Chinook salmon PSC taken in the pollock trawl fisheries accounts for the remaining Chinook salmon incidental catch in this area. A previous action, Amendment 93 to the FMP, was approved by the Council in June 2011 to limit Chinook salmon PSC in the Western and Central GOA pollock trawl fisheries. NMFS approved Amendment 93 and issued a final rule to implement it on July 20, 2012 (77 FR 42629). Because the Western and Central GOA non-pollock trawl fisheries contribute to Chinook salmon PSC and are currently the only trawl fisheries without a Chinook salmon PSC limit, the Council recommended that Chinook salmon PSC limits should be extended to these fisheries. Amendment 97 would establish GOA Chinook salmon PSC limits for these non-pollock trawl fisheries to prevent high levels of bycatch of this culturally and economically important species in the fishery, and to minimize the catch of Chinook salmon to the extent practicable in the GOA non-pollock trawl fisheries.

The Council proposed to minimize Chinook salmon bycatch to the extent practicable by recommending that Chinook salmon PSC not exceed a long-term annual average of 7,500 Chinook salmon and establishing Chinook salmon PSC limits for the three non-pollock trawl fishery sectors in the Western and Central GOA as follows:

• Rockfish Program CV Sector: 1,200 Chinook salmon.

• Non-Rockfish Program CV Sector: 2,700 Chinook salmon.

• Trawl C/P Sector: 3,600 Chinook salmon.

The Council recommended the Chinook salmon PSC limits primarily because the Analysis showed that they would result in substantial PSC savings, while allowing for catch of the available non-pollock groundfish TACs in most years (see ADDRESSES).

Amendment 97 would establish an incentive buffer for the Trawl C/P and Non-Rockfish Program CV Sectors. The incentive buffer would allow each sector to increase its annual Chinook salmon PSC limit if the amount of Chinook salmon PSC taken by the sector in the previous year was less than a specified amount of the sector's limit. This provision is termed an “incentive buffer” because it provides an incentive for participants in the Trawl C/P and Non-Rockfish Program CV Sectors to minimize PSC below their allocations, 3,600 and 2,700 Chinook salmon respectively, during a year to provide additional Chinook salmon PSC in the following year. This mechanism is intended to provide an incentive to reduce Chinook salmon bycatch in most years in order to receive a slightly higher PSC limit for the following year, which would be useful in an unusual year of salmon migration patterns or unanticipated higher abundance that makes it difficult to avoid Chinook salmon PSC by trawl vessels.

Amendment 97 would allow the reallocation of unused Chinook salmon PSC from the Rockfish Program CV Sector to the Non-Rockfish Program CV Sector on October 1 and November 15 of each year. An annual reallocation of all but 150 Chinook salmon from the Rockfish Program CV Sector to the Non-Rockfish Program CV Sector would occur on October 1 of each year; any remaining Chinook salmon PSC in the Rockfish Program CV Sector's apportionment would be reallocated to the Non-Rockfish Program CV Sector by November 15 of each year. This reallocation of unused PSC would provide some additional harvest opportunity to the Non-Rockfish Program CV Sector, depending on the amount reallocated. The Council selected this alternative to provide additional Chinook salmon PSC to address unanticipated events of high PSC encounters, for which the Non-Rockfish Program CVs would generally be unable to mitigate before reaching their PSC limit. The Non-Rockfish Program CV Sector does not operate under authority of the Rockfish Program and is not as likely to be able to voluntarily control or organize fleet behavior to adjust fishing patterns for avoiding Chinook salmon PSC. This reallocation would accommodate the demonstrated ability of the Rockfish Program CV Sector to catch small amounts of Chinook salmon PSC in the fall and manage small PSC balances during a season. In some years, reallocation provisions from the Rockfish Program CV Sector to the Non-Rockfish Program CV Sector may provide additional harvest opportunities and reduce the possibility of idling seafood processing capacity, which could have negative implications for fishery dependent communities.

Amendment 97 would establish a limit on the maximum amount of Chinook salmon PSC that could be used by the Trawl C/P Sector prior to June 1 of each year (seasonal allocation). During each year, the Trawl C/P Sector would be limited to no more than 66 percent of its annual Chinook salmon PSC limit prior to June 1. If, during the fishing year, NMFS determines that the Trawl C/P Sector would catch its seasonal allocation prior to June 1, NMFS would prohibit directed fishing for non-pollock fisheries for the Trawl C/P Sector until June 1. The seasonal allocation would ensure that sufficient Chinook salmon PSC would be left for the Trawl C/P Sector to participate in the Central GOA Rockfish Program, as well as to support other non-pollock trawl fisheries occurring later in the year.

Amendment 97 would require the operators of all trawl CVs and tender vessels to retain all salmon, including Chinook salmon caught in the non-pollock trawl fisheries in the Western and Central GOA until those salmon are delivered to a processing plant. This proposed action would also require shoreside processors and SFPs receiving non-pollock deliveries to retain all salmon until the number of salmon by species has been accurately recorded in the eLandings groundfish landing report. This proposed action would require the operators of vessels in the Trawl C/P Sector to retain all salmon until an observer has had the opportunity to collect scientific data or biological samples, and the number of salmon by species has been accurately recorded in the eLandings At-sea production report. The full retention requirement would not modify the observer duties or the method by which NMFS calculates fleet-wide Chinook salmon PSC estimates. There may be an increase in biological sampling at the plants with full retention. NMFS would continue to calculate Chinook salmon PSC numbers, and would manage PSC limits for Chinook salmon, using the existing system of extrapolating catch rates from observed vessels to the unobserved portion of the non-pollock trawl fleet.

The proposed action addresses the MSA National Standards and would balance a number of competing objectives for fishery conservation and management and the needs of different user groups. Specifically, the Council determined and NMFS agrees that this action would achieve balance and consistency with both National Standard 9 and National Standard 1. National Standard 9 requires that conservation and management measures shall, to the extent practicable, minimize bycatch. National Standard 1 requires that conservation and management measures shall prevent overfishing while achieving, on a continuing basis, the optimum yield from each fishery for the U.S. fishing industry. Amendment 97 is intended to allow the full prosecution of the non-pollock trawl fisheries in the Western and Central GOA in most years, while limiting the fisheries in some years if necessary to prevent events of unusually high Chinook salmon PSC in these areas.

NMFS is soliciting public comments on proposed Amendment 97 through the end of the comment period (see DATES). NMFS intends to publish in the Federal Register and seek public comment on a proposed rule that would implement Amendment 97 following NMFS' evaluation of the proposed rule under the MSA. Public comments on the proposed rule must be received by the end of the comment period on Amendment 97 to be considered in the approval/disapproval decision on Amendment 97. NMFS will consider all comments received by the end of the comment period on Amendment 97, whether specifically directed to the FMP amendment or the proposed rule, in the FMP amendment approval/disapproval decision. NMFS will not consider comments received after that date in the approval/disapproval decision on the amendment. To be considered, comments must be received, not just postmarked or otherwise transmitted, by the close of business on the last day of the comment period.

Authority: 16 U.S.C. 1801 et seq.

Dated: June 2, 2014.
Emily H. Menashes,
Acting Director, Office of Sustainable Fisheries, National Marine Fisheries Service.

[FR Doc. 2014-13066 Filed 6-4-14; 8:45 am]

BILLING CODE 3510-22-P